DEPARTMENT OF HOMELAND SECURITY

Coast Guard

[Docket No. USCG-2011-1178]

Revision of the National Preparedness for Response Exercise Program (PREP) Guidelines

AGENCY: Coast Guard, DHS.

ACTION: Notice and request for comments.

SUMMARY: The National Preparedness for Response Exercise Program (PREP) is designed to facilitate the periodic testing of oil spill response plans of certain vessels and facilities. The Coast Guard, Environmental Protection Agency (EPA), Department of Transportation's Pipeline and Hazardous Materials Safety Administration (PHMSA), and Department of the Interior's Bureau of Safety and Environmental Enforcement (BSEE) are working to revise the PREP Guidelines to reflect changes to regulations, agency reorganizations, and lessons learned from past preparedness activities and recent response activities. The PREP Guidelines were last revised in 2002. This notice solicits comments and suggestions for updating the PREP Guidelines.

DATES: Comments and related material must either be submitted to our online docket via http://www.regulations.gov on or before April 23, 2012 or reach the Docket Management Facility by that date.

ADDRESSES: You may submit comments identified by docket number USCG-2011-1178 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email LTJG Nicole Tourot, Office of Incident Management and Preparedness, Oil and Hazardous Substances Division (CG-5332), U.S. Coast Guard Headquarters; telephone 202-372-2230, email Nicole.J.Tourot@uscg.mil. If you have questions on viewing or submitting material to the docket, call Renee V. Wright, Program Manager, Docket Operations, telephone 202-366-9826.

SUPPLEMENTARY INFORMATION:

Public Participation and Request for Comments

We encourage you to participate in the revision of the PREP Guidelines by submitting comments and related materials. All comments received will be posted without change to http://www.regulations.gov and will include any personal information you have provided.

Submitting comments: If you submit a comment, please include the docket number (USCG-2011-1178), indicate the specific section of the PREP Guidelines to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov, click on the “submit a comment” box, which will then become highlighted in blue. Insert “USCG-2011-1178” in the “Keyword” box, click “Search,” and then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing comments and documents: To view comments as well as documents mentioned in this notice as being available in the docket, go to http://www.regulations.gov, type “USCG-2011-1178” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act and system of records notice regarding our public dockets in the January 17, 2008, issue of the Federal Register (73 FR 3316).

Public meeting: After considering public comments and developing a revised draft of the PREP Guidelines, we may hold one or more public meetings to discuss the draft. We will announce the time and place of any meetings by a later notice in the Federal Register.

Basis and Purpose

The Oil Pollution Act of 1990 (OPA 90) requires, among other things, that periodic exercises take place to test oil spill removal capabilities in certain areas designated in the statute.¹ The National Preparedness for Response Exercise Program (PREP) was developed to establish a workable exercise program consistent with this statutory requirement. The PREP is a voluntary program developed to provide a mechanism for compliance with the exercise requirements, while being economically feasible for the government and oil industry to adopt and sustain. The PREP is a unified Federal effort and satisfies the exercise requirements of the Coast Guard (USCG), the Environmental Protection Agency (EPA), the Pipeline and Hazardous Materials Safety Administration (PHMSA) and the Bureau of Safety and Environmental Enforcement (BSEE). Completion of the PREP exercises will satisfy all OPA 90 mandated Federal oil pollution response exercise requirements.

¹ 33 U.S.C. 1321(j)(6) and (7).

The four Federal agencies referenced above published the PREP Guidelines in 1994 and revised them in 2002. The 2002 edition is available in the docket as described in the ADDRESSES section above. The agencies are now considering revising the PREP Guidelines again in order to reflect agency reorganizations, preparedness and response lessons learned, and new regulations, including the Coast Guard's Salvage and Marine Firefighting regulations. We invite public comment on what changes, if any, should be made to update or improve the PREP Guidelines.

This notice is part of a two-stage public comment process. The comments received from the public on what, if any, suggested changes would be appropriate to the current version of the PREP Guidelines will be used to inform the revision process. After considering all of the comments, we anticipate making a revised draft of the PREP Guidelines available for public review and comment in the future.

This notice is issued under authority of 33 U.S.C. 1321(j), 5 U.S.C. 552(a), and 33 CFR 1.05-1.

Dated: February 9, 2012.
J.G. Lantz,
Director, Commercial Regulations and Standards U.S. Coast Guard.

[FR Doc. 2012-4021 Filed 2-21-12; 8:45 am]

BILLING CODE 9110-04-P